POSTAL SERVICE

Temporary Emergency Committee of the Board of Governors; Sunshine Act Meeting

DATES AND TIMES: April 13, 2015, at 2 p.m., and April 14, 2015, at 8:30 a.m.

PLACE: San Mateo, California.

STATUS: Closed.

Matters To Be Considered

Monday, April 13, 2015, at 2 p.m.

1. Personnel Matters and Compensation Issues.

2. Strategic Issues.

Tuesday, April 14, 2015, at 8:30 a.m.

1. Strategic Issues (Continued).

2. Financial Matters.

3. Pricing.

4. Governors' Executive Session—Discussion of prior agenda items and Board governance.

General Counsel Certification: The General Counsel of the United States Postal Service has certified that the meeting may be closed under the Government in the Sunshine Act.

Contact Person For More Information: Requests for information about the meeting should be addressed to the Secretary of the Board, Julie S. Moore, at 202-268-4800.

Julie S. Moore,
Secretary, Board of Governors.

[FR Doc. 2015-05863 Filed 3-11-15; 11:15 am]

BILLING CODE 7710-12-P